DEPARTMENT OF VETERANS AFFAIRS

[OMB Control No. 2900-0571]

Agency Information Collection Activity: (Customer Satisfaction Surveys)

AGENCY: National Cemetery Administration (NCA), Department of Veterans Affairs.

ACTION: Notice.

SUMMARY: National Cemetery Administration (NCA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on the collection of perceptions of the quality of service afforded by the National Cemetery Administration as judged by next of kin of those interred, or funeral directors who facilitate these interments.

DATES: Written comments and recommendations on the proposed collection of information should be received on or before April 28, 2020.

ADDRESSES: Submit written comments on the collection of information through Federal Docket Management System (FDMS) at www.Regulations.gov or to Mr. James Geleta, National Cemetery Administration (42A), Department of Veterans Affairs, 810 Vermont Avenue NW, Washington, DC 20420 or email to James.Geleta@va.gov. Please refer to “OMB Control No. 2900-0571” in any correspondence. During the comment period, comments may be viewed online through FDMS.

FOR FURTHER INFORMATION CONTACT: Ms. Cynthia Harvey-Pryor at (202) 461-5870.

SUPPLEMENTARY INFORMATION:

Under the PRA of 1995, Federal agencies must obtain approval from the Office of Management and Budget (OMB) for each collection of information they conduct or sponsor. This request for comment is being made pursuant to Section 3506(c)(2)(A) of the PRA.

With respect to the following collection of information, NCA invites comments on: (1) Whether the proposed collection of information is necessary for the proper performance of NCA's functions, including whether the information will have practical utility; (2) the accuracy of NCA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Customer Satisfaction Surveys.

OMB Control Number: 2900-0571.

Type of Review: Extension of a currently approved collection.

Abstract: Improving Customer Service through Effective Performance Management, NCA will conduct surveys to determine the level of satisfaction with existing services among their customers. The surveys will solicit voluntary opinions and are not intended to collect information required to obtain or maintain eligibility for a VA program or benefit. Baseline data obtained through these information collections are used to validate customer service standards.

Affected Public: Individuals and households interring Veterans or eligible dependents, and funeral directors facilitating such interments.

I. National Cemetery Mail Surveys

a. National Cemeteries Next of Kin/Family Member and Funeral Director Satisfaction Surveys

Estimated Annual Burden: 14,500 hours.

Estimated Average Burden per Respondent: 30 minutes.

Frequency of Response: On occasion.

Estimated Number of Respondents: 29,000.

b. State or Tribal Veterans Cemeteries Next of Kin/Family Member and Funeral Director Satisfaction Surveys

Estimated Annual Burden: 9,500 hours.

Estimated Average Burden per Respondent: 30 minutes.

Frequency of Response: On occasion.

Estimated Number of Respondents: 19,000.

II. Program/Specialized Service Survey

a. VA Memorial Products Next of Kin/Family Member and Funeral Director Satisfaction Surveys

Estimated Annual Burden: 1, 500 hours.

Estimated Average Burden per Respondent: 30 minutes.

Frequency of Response: On occasion.

Estimated Number of Respondents: 6,000.

III. National Cemetery Focus Groups

a. Focus Groups With Next of Kin

Estimated Annual Burden: 150 hours.

Estimated Average Burden per Respondent: 3 hours.

Frequency of Response: On occasion.

Estimated Number of Respondents: 50.

b. Focus Groups With Funeral Directors

Estimated Annual Burden: 150 hours.

Estimated Average Burden per Respondent: 3 hours.

Frequency of Response: On occasion.

Estimated Number of Respondents: 50.

c. Focus Groups With Veteran Service Organizations

Estimated Annual Burden: 150 hours.

Estimated Average Burden Per Respondent: 3 hours.

Frequency of Response: On occasion.

Estimated Number of Respondents: 50.

IV. National Cemetery Visitor Comment Cards (Local Use)

Estimated Annual Burden: 208 hours.

Estimated Average Burden Per Respondent: 5 minutes.

Frequency of Response: On occasion.

Estimated Number of Respondents: 2,500.

By direction of the Secretary.
Danny S. Green,
Department Clearance Officer, Office of Quality, Performance and Risk, Department of Veterans Affairs.

[FR Doc. 2020-04094 Filed 2-27-20; 8:45 am]

BILLING CODE 8320-01-P